NUCLEAR REGULATORY COMMISSION

Regulatory Guide; Issuance, Availability

The Nuclear Regulatory Commission has issued a new guide in its Regulatory Guide Series. This series has been developed to describe and make available to the public such information as methods acceptable to the NRC staff for implementing specific parts of the Commission's regulations, techniques used by the staff in evaluating specific problems or postulated accidents, and data needed by the staff in its review of applications for permits and licenses.

Regulatory Guide 1.180, “Guidelines for Evaluating Electromagnetic and Radio-Frequency Interference in Safety-Related Instrumentation and Control Systems,” endorses design, installation, and testing practices acceptable to the NRC staff for addressing the effects of electromagnetic interference, radio-frequency interference, and power surges on safety-related instrumentation and control systems in a nuclear power plant. The guide endorses, with certain conditions, the design and installation practices described in the Institute of Electrical and Electronics Engineers standard, IEEE Std 1050-1996, “IEEE Guide for Instrumentation and Control Equipment Grounding in Generating Stations.” Electromagnetic compatibility testing practices from military and commercial standards are endorsed to address electromagnetic emissions, electromagnetic and radio-frequency interference immunity, and power surge withstand capability.

Comments and suggestions in connection with items for inclusion in guides currently being developed or improvements in all published guides are encouraged at any time. Written comments may be submitted to the Rules and Directives Branch, Division of Administrative Services, Office of Administration, U.S. Nuclear Regulatory Commission, Washington, DC 20555.

Regulatory guides are available for inspection or downloading at the NRC's Public Electronic Reading Room at <www.nrc.gov>. Single copies of regulatory guides may be obtained free of charge by writing the Reproduction and Distribution Services Section, U.S. Nuclear Regulatory Commission, Washington, DC 20555-0001, or by fax to (301) 415-2289, or by email to <DISTRIBUTION@NRC.GOV>. Issued guides may also be purchased from the National Technical Information Service on a standing order basis. Details on this service may be obtained by writing NTIS, 5285 Port Royal Road, Springfield, VA 22161. Regulatory guides are not copyrighted, and Commission approval is not required to reproduce them.

(5 U.S.C. 552(a))

Dated at Rockville, Maryland, this 21st day of January 2000.
For the Nuclear Regulatory Commission.
Ashok C. Thadani,
Director, Office of Nuclear Regulatory Research.

[FR Doc. 00-3092 Filed 2-9-00; 8:45 am]

BILLING CODE 7590-01-P